DEPARTMENT OF JUSTICE

Notice of Lodging Proposed Consent Decree

In accordance with Departmental Policy, 28 CFR 50.7, notice is hereby given that a proposed Consent Decree in United States v. Russ Huseby, Civil Action No. 09-3737 (JRT/LIB), was lodged with the United States District Court for the District of Minnesota on April 2, 2013.

This proposed Consent Decree concerns a complaint filed by the United States against Russ Huseby, pursuant to Sections 309(b) and 309(d) of the Clean Water Act (“CWA”), 33 U.S.C. 1319(b) and 1319(d), to obtain injunctive relief from and impose civil penalties against the Defendant for violating the Clean Water Act by discharging pollutants without a permit into waters of the United States. The proposed Consent Decree resolves these allegations by requiring the Defendant to restore the impacted areas and to pay a civil penalty.

The Department of Justice will accept written comments relating to this proposed Consent Decree for thirty (30) days from the date of publication of this Notice. Please address comments to Friedrich A.P. Siekert, Assistant United States Attorney, 600 United States Courthouse, 300 South Fourth Street, Minneapolis, MN 55415 and refer to United States v. Russ Huseby, USAO # 2009v00301, DJ # 90-5-1-1-18555.

The proposed Consent Decree may be examined at the Clerk's Office, United States District Court for the District of Minnesota, 200 United States Courthouse, 300 South Fourth Street, Minneapolis, MN 55415. In addition, the proposed Consent Decree may be examined electronically at http://www.justice.gov/enrd/Consent_Decrees.html.

Cherie L. Rogers,
Assistant Section Chief, Environmental Defense Section, Environment and Natural Resources Division.

[FR Doc. 2013-08429 Filed 4-10-13; 8:45 am]

BILLING CODE P